DEPARTMENT OF LABOR

Employment and Training Administration

[TA-W-71,704]

Hart and Cooley, Inc., A Subsidiary of Tomkins, PLC Including On-Site Leased Workers from Reliable, Masiello Employment Services, Harmon Personnel Services, Community Enterprises, and Employment Plus Turners Falls, Massachusetts; Amended Certification Regarding Eligibility to Apply for Worker Adjustment Assistance

In accordance with Section 223 of the Trade Act of 1974, as amended (“Act”), 19 U.S.C. 2273, the Department of Labor issued a Certification of Eligibility to Apply for Worker Adjustment Assistance on March 26, 2010, applicable to workers of Hart and Cooley, Inc., a subsidiary of Tomkins, PLC, including on-site leased workers from Reliable, Masiello Employment Services, Harmon Personnel Services, and Community Enterprises, Turners Falls, Massachusetts. The workers are engaged in activities related to the production of air distribution and ventilation products. The notice of determination was published in the Federal Register on April 23, 2010 (75 FR 21354).

At the request of the Massachusetts Department of Career Services, the Department reviewed the certification for workers of the subject firm. New information from the subject firm shows that workers leased from Employment Plus were employed on-site at Hart and Cooley, Inc., Turners Falls, Massachusetts during the period covered under the certification. The Department has determined that these workers were sufficiently under the control of the subject firm to be considered leased workers.

Based on these findings, the Department is amending this certification to include workers leased from Employment Plus working on-site at the Turners Falls, Massachusetts location of the subject firm.

The intent of the Department's certification is to include all workers of the subject firm who were adversely affected by increased customer imports.

The amended notice applicable to TA-W-71,704 is hereby issued as follows:

“All workers from Hart and Cooley, Inc., a subsidiary of Tomkins, PLC, including on-site leased workers from Reliable, Masiello Employment Services, Harmon Personnel Services, Community Enterprises, and Employment Plus, Turners Falls, Massachusetts, who became totally or partially separated from employment on or after July 12, 2008, through March 26, 2012, and all workers in the group threatened with total or partial separation from employment on date of certification through two years from the date of certification, are eligible to apply for adjustment assistance under Chapter 2 of Title II of the Trade Act of 1074, as amended.”

Signed at Washington, DC this 29th day of March, 2012.
Del Min Amy Chen,
Certifying Officer, Office of Trade Adjustment Assistance.

[FR Doc. 2012-8499 Filed 4-9-12; 8:45 am]

BILLING CODE 4510-FN-P